DEPARTMENT OF HEALTH AND HUMAN SERVICES

Centers for Disease Control and Prevention

[Program Announcement 01079]

Cooperative Agreement for the Development of State-Level Surveillance Systems, Enhancement of Epidemiologic Practice, and the Development of Epidemiologic Training Programs for State Health Agencies; Notice of Availability of Funds

A. Purpose

The Centers for Disease Control and Prevention (CDC) announces the availability of fiscal year (FY) 2001 funds for a cooperative agreement for the development of state-level surveillance systems, enhancement of epidemiologic practice, and the development of epidemiologic training programs for state health agencies.

B. Eligible Applicants

Assistance will be provided only to the Council of State and Territorial Epidemiologists (CSTE). No other applications are solicited. Because of the professional appointments and technical expertise with tribal, state, territorial and local health agencies, through its membership, CSTE is uniquely capable of applying epidemiologic principles to disease, environmental, and injury problems at the national, state, and local levels, and when states are directly affected. No other organization has the scientific and technical expertise to carry out this project.

C. Availability of Funds

Approximately $3,000,000 is available in FY 2001 to fund this award. Funds will be allocated to individually described and budgeted projects or activities which will comprise the overall cooperative agreement. Individual projects are expected to range from $100,000 to $625,000. It is expected that the award will be made on or about September 30, 2001, and will be made for a 12 month budget period within a project period of up to five years.

D. Where To Obtain Additional Information

Business management technical assistance may be obtained from: Mattie Jackson, Grants Management Specialist, Grants Management Branch, Procurement and Grants Office, Centers for Disease Control and Prevention 2920 Brandywine Road, Room 3000, Atlanta, GA 30341-4146, Telephone number: 770-488-2696, Email address: mij3@cdc.gov.

Program technical assistance may be obtained from: Maryan D. Reynolds, Public Health Advisor 1600 Clifton Road, Mailstop D-18, Atlanta, GA 30333, Telephone number: 404-639-4240, Email address: mdk0@cdc.gov.

Dated: April 25, 2001.
John L. Williams,
Director, Procurement and Grants Office, Centers for Disease Control and Prevention (CDC).

[FR Doc. 01-10760 Filed 4-30-01; 8:45 am]

BILLING CODE 4163-18-P